NUCLEAR REGULATORY COMMISSION

[NRC-2012-0002]

Sunshine Act Meeting

AGENCY HOLDING THE MEETINGS: Nuclear Regulatory Commission.

DATE: Weeks of September 24, October 1, 8, 15, 22, 29, 2012.

PLACE: Commissioners' Conference Room, 11555 Rockville Pike, Rockville, Maryland.

STATUS: Public and Closed.

Week of September 24, 2012

Tuesday, September 25, 2012

9:25 a.m. Affirmation Session (Public Meeting) (Tentative)

a. Virginia Electric and Power Company d/b/a Dominion Virginia Power and Old Dominion Electric Cooperative (North Anna Power Station, Unit 3); Blue Ridge Environmental Defense League's (BREDL) Petition for Review of CLI-12-14 (Tentative).

This meeting will be webcast live at the Web address— www.nrc.gov.

9:30 a.m. Strategic Programmatic Overview of the New Reactors Business Line (Public Meeting) (Contact: Donna Williams, 301-415-1322).

This meeting will be webcast live at the Web address— www.nrc.gov.

Week of October 1, 2012—Tentative

Tuesday, October 2, 2012

9:30 a.m. Strategic Programmatic Overview of the Nuclear Materials Users and Decommissioning and Low-Level Waste Business Lines (Public Meeting) (Contact: Kimyata Morgan Butler, 301-415-0733).

This meeting will be webcast live at the Web address— www.nrc.gov.

Week of October 8, 2012—Tentative

There are no meetings scheduled for the week of October 8, 2012.

Week of October 15, 2012—Tentative

There are no meetings scheduled for the week of October 15, 2012.

Week of October 22, 2012—Tentative

Tuesday, October 23, 2012

9:30 a.m. Strategic Programmatic Overview of the Spent Fuel Storage and Transportation and Fuel Facilities Business Lines (Public Meeting) (Contact: Kevin Mattern, 301-492-3221).

This meeting will be webcast live at the Web address— www.nrc.gov.

Week of October 29, 2012—Tentative

Tuesday, October 30, 2012

9:30 a.m. Briefing on Fort Calhoun (Public Meeting) (Contact: Michael Hay, 817-200-1527).

This meeting will be webcast live at the Web address— www.nrc.gov.

* * * * *

*The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by email at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: September 20, 2012.
Rochelle C. Bavol,
Policy Coordinator, Office of the Secretary.

[FR Doc. 2012-23665 Filed 9-21-12; 4:15 pm]

BILLING CODE 7590-01-P